Presidential Determination No. 2003-21 of April 21, 2003

Presidential Determination Under the Sudan Peace Act

Memorandum for the Secretary of State

Pursuant to section 6(b)(1)(A) of the Sudan Peace Act (Public Law 107-245), I hereby determine and certify that the Government of Sudan and the Sudan People's Liberation Movement are negotiating in good faith and that negotiations should continue.

You are authorized and directed to notify the Congress of this determination and to arrange for its publication in the Federal Register.

B

THE WHITE HOUSE,

Washington, April 21, 2003.

[FR Doc. 03-10402

Filed 4-24-03; 8:45 am]

Billing code 4710-10-P